DEPARTMENT OF AGRICULTURE

Forest Service

Forest Resource Coordinating Committee Meeting

AGENCY: Forest Service, USDA.

ACTION: Notice of meeting.

SUMMARY: The Forest Resource Coordinating Committee (Committee) will meet in Washington, DC. The Committee is authorized under Section 8005 of the Food, Conservation, and Energy Act of 2008 (the Act) (Pub. L. 110-246). Additional information concerning the Committee, including the meeting agenda, supporting documents and minutes, can be found by visiting the Committee's Web site at http://www.fs.fed.us/spf/coop/frcc/.

DATES: The meeting will be held on August 4 and 5, 2015, from 8 a.m. to 5 p.m. Eastern Daylight Time (EDT). The meeting is subject to cancellation. For status of the meeting prior to attendance, please contact the person listed under FOR FURTHER INFORMATION CONTACT.

ADDRESSES: The meeting will be held at the American Forest Foundation, 2000 M St. Suite 550 NW., Washington, DC. Members of the public should RSVP to facilitate entry into the American Forest Foundation. Written comments may be submitted as described under SUPPLEMENTARY INFORMATION. All comments, including names and addresses when provided, are placed in the record and are available for public inspection and copying. The public may inspect comments placed on the Committee's Web site listed above.

FOR FURTHER INFORMATION CONTACT: Andrea Bedell-Loucks, Forest Resource Coordinating Committee Designated Federal Officer, Cooperative Forestry Staff, by phone at 202-205-1190 or Laurie Schoonhoven, Forest Resource Coordinating Committee Program Coordinator, Cooperative Forestry Staff, by phone at 202-205-0929. Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Hear updates on new and emerging private forest land topics;

2. Prioritize recommendations; and

3. Develop communication strategy.

The meeting is open to the public. The agenda will include time for people to make oral statements of three minutes or less. Individuals wishing to make an oral statement should submit a request in writing by July 30, 2015 to be scheduled on the agenda. Anyone who would like to bring related matters to the attention of the Committee may file written statements with the Committee staff before August 1, 2015. Written comments and time requests for oral comments must be sent to Laurie Schoonhoven, 1400 Independence Ave. SW., mailstop 1123, Washington, DC 20250, or by email to lschoonhoven@fs.fed.us. A summary of the meeting will be posted at http://www.fs.fed.us/spf/coop/frcc within 21 days after the meeting.

Meeting Accommodations: If you are a person requiring reasonable accommodation, please make requests in advance for sign language interpreting, assistive listening devices or other reasonable accommodations for access to the facility or proceedings by contacting the person listed under the For Further Information Contact. All reasonable accommodation requests are managed on a case by case basis.

Dated: July 22, 2015.
Patricia Hirami,
Associate Deputy Chief, State and Private Forestry.

[FR Doc. 2015-18486 Filed 7-27-15; 8:45 am]

BILLING CODE 3411-15-P